NATIONAL SCIENCE FOUNDATION

National Spectrum Sharing Research Experimentation, Validation, Verification, Demonstration and Trials: Technical Workshop II on Coordinating Federal Government/Private Sector Spectrum Innovation Testing Needs

AGENCY: The National Coordination Office (NCO) for Networking and Information Technology Research and Development (NITRD).

ACTION: Notice.

FOR FURTHER INFORMATION CONTACT: Wendy Wigen at (703) 292-4873 or wigen@nitrd.gov. Space is limited and on a first-come, first-served basis. The meeting will be webcast. Individuals who use a telecommunications device for the deaf (TDD) may call the Federal Information Relay Service (FIRS) at 1-800-877-8339 between 8 a.m. and 8 p.m., Eastern time, Monday through Friday.

DATES: January 17-18, 2012.

SUMMARY: Representatives from Federal research agencies, private industry, and academia will collaboratively define the concept and requirements of national level spectrum research, development, demonstration, and field trial facilities.

SUPPLEMENTARY INFORMATION:

Overview: This notice is issued by the National Coordination Office (NCO) for the Networking and Information Technology Research and Development (NITRD) Program. NITRD agencies are holding a series of technical workshops, this being the second, to bring together experts from private industry and academia to help create and implement a plan for the Department of Commerce regarding spectrum-sharing technologies. The workshop will take place on January 17, from 12 Noon to 5 p.m. Pacific Time, and January 18 from 8 a.m. to 5 p.m. Pacific Time in Berkeley, California at the Berkeley Wireless Research Center (BWRC), 2108 Allston Way, Suite 200, Berkeley, CA 94704-1302. This event will be webcast. For the event agenda and information about the webcast, go to http://www.nitrd.gov/Subcommittee/wirelessspectrumrd.aspx.

Background: The dramatic rise of radio frequency-based applications has sparked a new sense of urgency among federal users, commercial service providers, equipment developers, and spectrum management professionals to determine the optimal way to manage and use the radio spectrum. During Workshop I held at Boulder, Colorado on June 26, 2011, the industry expressed a critical need to increase the number and availability of national testing facilities to prove that spectrum sharing technologies are a viable approach to sharing spectrum among different users. Spectrum sharing technology experimentation in ideal environments was cited as a key element to catalyze future wireless innovation in a complex spectrum environment that stakeholders can trust and that will provide a technological basis for national policy and rule making. The Wireless Spectrum Research and Development Senior Steering Group (WSRD-SSG) was created by the White House Office of Science and Technology Policy in late 2010. The committee was asked to identify current spectrum-related research projects funded by the Federal Government, and to work with the non-federal community, including the academic, commercial, and public safety sectors, to implement a plan that “facilitates research, development, experimentation, and testing by researchers to explore innovative spectrum-sharing technologies,” in accordance with the Presidential Memorandum on Unleashing the Wireless Broadband Revolution. WSRD-SSG operates under the auspices of the Networking and Information Technology Research and Development (NITRD) Program of the National Coordination Office (NCO), and has recently put together a preliminary inventory of federal R&D in the spectrum arena. This second workshop—Workshop II—will present an opportunity for relevant interested parties, including technical experts from private industry and public safety, together with academic researchers, and Government agencies to collaboratively define the concept and requirements of national level spectrum research, development, demonstration, and field trial facilities. Participants will discuss the national facilities that are operational today and their availability. Participants, especially those from the industry and academia, will also be asked to identify infrastructure, toolsets, facilities and features that are important for spectrum innovation. The workshop will discuss potential payoffs, resource utilization and collaborative engagement frameworks that the national wireless industry can adopt that are consistent with the Federal Government's role in sponsoring “high-risk high-reward” research innovation and experimentation. The workshop will also address possible frameworks for supporting near-term and long-term research experimentation that may result in yet-to-be-conceived improvements and models for spectrum utilization. The workshop will discuss technology impacts on multiple sectors that can benefit from the use of national experimentation facilities including, government, public safety, commercial cellular, energy, transport, health, education and agricultural sectors.

Submitted by the National Science Foundation for the National Coordination Office (NCO) for Networking and Information Technology Research and Development (NITRD) on December 23, 2011.

Suzanne H. Plimpton,
Reports Clearance Officer, National Science Foundation.

[FR Doc. 2011-33383 Filed 12-28-11; 8:45 am]

BILLING CODE 7555-01-P